INTERNATIONAL TRADE COMMISSION

[Inv. No. 337-TA-531]

In the Matter of Certain Network Controllers and Products Containing Same; Notice of Decision Not To Review an Initial Determination Granting Complainant's Motion To Terminate the Investigation Based on a Settlement Agreement

AGENCY: U.S. International Trade Commission.

ACTION: Notice.

SUMMARY: Notice is hereby given that the U.S. International Trade Commission has determined not to review an initial determination (“ID”) issued by the presiding administrative law judge (“ALJ”) on September 19, 2005, granting complainant's motion to terminate the investigation based on a settlement agreement.

FOR FURTHER INFORMATION CONTACT: Michael Liberman, Esq., Office of the General Counsel, U.S. International Trade Commission, 500 E Street, SW., Washington, DC 20436, telephone 202-205-3115. Copies of the public version of the IDs and all nonconfidential documents filed in connection with this investigation are or will be available for inspection during official business hours (8:45 a.m. to 5:15 p.m.) in the Office of the Secretary, U.S. International Trade Commission, 500 E Street, SW., Washington, DC 20436, telephone 202-205-2000. Hearing-impaired persons are advised that information on this matter can be obtained by contacting the Commission's TDD terminal on 202-205-1810. General information concerning the Commission may also be obtained by accessing its Internet server (http://www.usitc.gov). The public record for this investigation may be viewed on the Commission's electronic docket (EDIS) at http://edis.usitc.gov.

SUPPLEMENTARY INFORMATION: On January 19, 2005, the Commission instituted an investigation under section 337 of the Tariff Act of 1930, 19 U.S.C. 1337, based on a complaint filed by Marvell International, Ltd. of Hamilton, Bermuda (“Marvell”), alleging a violation of section 337 in the importation, sale for importation, and sale within the United States after importation of certain network controllers and products containing same by reason of infringement of claims 68, 70, and 71 of U.S. Patent No. 6, 462,688 (the “688 patent”), and claims 22-32, 54, and 55 of U.S. Patent No. 6,775,529 (the “529 patent”). 70 FR 3067 (January 19, 2005). The complainant named Realtek Semiconductor Corporation of Hsinchu, Taiwan, and Real Communications, Inc., of San Jose, CA (collectively, “Realtek”), as respondents. Subsequently, the complaint and notice of investigation were amended to add an additional respondent, BizLink Technology, Inc. (“BizLink”).

On August 31, 2005, complainant Marvell moved to terminate the investigation in whole pursuant to 19 U.S.C. 1337(c) and 19 CFR 210.21 based on a settlement agreement. On September 12, 2005, respondents Realtek and BizLink filed a response to the motion. Respondents do not oppose the motion to terminate. On the same day, the Commission investigative attorney (“IA”) filed a response in support of the motion. On September 16, 2005, Marvell filed a reply to respondents' and the IA's responses.

On September 19, 2005, the ALJ issued an ID (Order No. 21) granting complainant's motion. No party petitioned for review of the ALJ's ID.

The authority for the Commission's determination is contained in section 337 of the Tariff Act of 1930, as amended (19 U.S.C. 1337), and in § 210.42 of the Commission's Rules of Practice and Procedure (19 CFR 210.42).

By order of the Commission.
Issued: October 7, 2005.
Marilyn R. Abbott,
Secretary to the Commission.

[FR Doc. 05-20571 Filed 10-13-05; 8:45 am]

BILLING CODE 7020-02-P